ENVIRONMENTAL PROTECTION AGENCY

[ER-FRL-9013-1]

Environmental Impact Statements; Notice of Availability

Responsible Agency: Office of Federal Activities, General Information (202) 564-7146 or http://www.epa.gov/compliance/nepa/.

Weekly receipt of Environmental Impact Statements

Filed 01/06/2014 Through 01/10/2014

Pursuant to 40 CFR 1506.9.

Notice

Section 309(a) of the Clean Air Act requires that EPA make public its comments on EISs issued by other Federal agencies. EPA's comment letters on EISs are available at: http://www.epa.gov/compliance/nepa/eisdata.html.

EIS No. 20140002, Final EIS, USFS, OR, Mt. Hood Meadows Parking Improvements, Review Period Ends: 03/04/2014, Contact: Jennie O'Connor Card 406-522-2537.

EIS No. 20140003, Final EIS, USFWS, TX, Comal County Regional Habitat Conservation Plan, Review Period Ends: 02/18/2014, Contact: Marty Tuegel 505-248-6651.

EIS No. 20140004, Final EIS, USFWS, IN, Fowler Ridge Wind Farm Final EIS, Review Period Ends: 02/18/2014, Contact: Scott Pruitt 812-334-4261.

EIS No. 20140005, Draft EIS, NPS, NV, Jimbilnan, Pinto Valley, Black Canyon, Eldorado, Ireteba Peaks, Nellis Wash, Spirit Mountain, and Bridge Canyon Wilderness Areas Draft Wilderness Management Plan, Comment Period Ends: 03/23/2014, Contact: Greg Jarvis 303-969-2263.

EIS No. 20140006, Draft EIS, NPS, VA, Dyke Marsh Wetland Restoration and Long-term Management Plan, Comment Period Ends: 03/18/2014, Contact: Brent Steury 703-289-2500.

EIS No. 20140007, Final EIS, USFS, WY, Shoshone National Forest Land Management Plan Revision, Review Period Ends: 03/24/2014, Contact: Carrie Christman 307-578-5118.

EIS No. 20140008, Second Draft EIS (Tiering), FHWA, MO, Route I-70 Jackson County, from West of The Paseo Interchange to East of the Blue Ridge Cutoff Interchange, Comment Period Ends: 03/07/2014, Contact: Raegan Ball 573-638-2620.

EIS No. 20140009, Draft EIS, FERC, LA, Cameron LNG Liquefaction Project, Comment Period Ends: 03/03/2014, Contact: Danny Laffoon 202-502-6257.

EIS No. 20140010, Draft EIS, NPS, FL, East Everglades Expansion Area, Land Acquisition, Comment Period Ends: 03/18/2014, Contact: Brien Culhane 305-242-7717.

EIS No. 20140011, Final EIS, USACE, NV, Truckee Meadows Flood Control Project, Review Period Ends: 02/18/2014, Contact: Dan Artho 916-557-7723.

Amended Notices

EIS No. 20130363, Draft EIS, DOI, 00, PROGRAMMATIC-Deepwater Horizon Oil Spill Natural Resource Damage Assessment Early Restoration Plan, Comment Period Ends: 02/19/2014, Contact: Nanciann Regalado 678-296-6805. Revision to FR Notice Published 12/13/2013; Extending the Comment Period from 02/04/2014 .0to 02/19/2014.

EIS No. 20130367, Draft Supplement, USFS, MT, Miller West Fisher Project, Comment Period Ends: 02/03/2014, Contact: Leslie McDougall 406-295-7431. Revision to FR Notice Published 12/20/2013; Retracted by the request of the preparing agency.

Dated: January 14, 2014.
Cliff Rader,
Director, NEPA Compliance Division, Office of Federal Activities.

[FR Doc. 2014-00929 Filed 1-16-14; 8:45 am]

BILLING CODE 6560-50-P